DEPARTMENT OF TRANSPORTATION

Federal Aviation Administration

14 CFR Parts 401, 404, 413, 414, 415, 417, 420, 431, 433, 435, 437, 440, and 450

[Docket No.: FAA-2019-0229; Notice No. 19-01A]

RIN 2120-AL17

Streamlined Launch and Reentry Licensing Requirements; Extension of Comment Period

AGENCY: Federal Aviation Administration (FAA), DOT.

ACTION: Notice of proposed rulemaking (NPRM); extension of comment period.

SUMMARY: This action extends the comment period for an NPRM that was published on April 15, 2019. In that document, the FAA proposed to streamline and increase the flexibility in the FAA's commercial space launch and reentry regulations. This action would consolidate and revise multiple regulatory parts and apply a single set of licensing and safety regulations across several types of operations and vehicles. The FAA is extending the comment period closing date to allow commenters time to adequately analyze the proposed rule and prepare response.

DATES: The comment period for the NPRM published on April 15, 2019 at 84 FR 15296 and scheduled to close on June 14, 2019, is extended until July 30, 2019.

ADDRESSES: You may send comments identified by docket number FAA-2019-0229 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or Docket Operations in Room W12-140 of the West Building Ground Floor at 1200 New Jersey Avenue SE, Washington, DC, between 9 a.m. and 5 p.m., Monday through Friday, except Federal holidays.

FOR FURTHER INFORMATION CONTACT: Ralen Gao, ARM-209, Office of Rulemaking, Federal Aviation Administration, 800 Independence Avenue SW, Washington, DC 20591, telephone (202) 267-3168; email ralen.gao@faa.gov.

SUPPLEMENTARY INFORMATION:

A. Comments Invited

The FAA invites interested persons to participate in this rulemaking by submitting written comments, data, or views. The agency also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The agency may change this proposal in light of the comments it receives.

B. Availability of Rulemaking Documents

An electronic copy of rulemaking documents may be obtained from the internet by—

1. Searching the Federal eRulemaking Portal (http://www.regulations.gov);

2. Visiting the FAA's Regulations and Policies web page at http://www.faa.gov/regulations_policies or

3. Accessing the Government Printing Office's web page at http://www.gpo.gov/fdsys/.

Copies may also be obtained by sending a request to the Federal Aviation Administration, Office of Rulemaking, 800 Independence Avenue SW, Washington, DC 20591, or by calling (202) 267-9680. Commenters must identify the docket or notice number of this rulemaking.

All documents the FAA considered in developing this proposed rule, including economic analyses and technical reports, may be accessed from the internet through the Federal eRulemaking Portal referenced in item (1) above.

Background

On March 26, 2019, the FAA posted a draft copy of the NPRM entitled “Streamlined Launch and Reentry Licensing Requirements” on its website for public preview. On April 15, 2019, this rule, containing minimal changes, was published as Notice No. 19-01 in the Federal Register (84 FR 15296). Commenters were instructed to provide comments on or before June 14, 2019.

Since publication, fifty-six commenters ¹ have requested an extension of the comment period to a total of 120 days, or until August 13, 2019, citing the proposed rule's breadth, significant impact, length, and complexity. The commenters stated a longer time frame is necessary in order to fully review the proposed rule and develop comments and recommendations.

¹ The commenters are Aerospace Industries Association (AIA), Analytical Graphics Inc. (AGI), Aircraft Owners and Pilots Association (AOPA), Airlines for America, Airports Council International—North America (ACI), Air Line Pilots Association (ALPA), American Association of Airline Executives (AAAE), Arete STEM Foundation, Arizona State University, Atomos Space, Axiom, Blue Origins, Colorado Air and Space Port, Exos Aerospace, Generation Orbit, Houston Space Port, Heinlein Prize Trust, Johns Hopkins University, InterFlight Global Corporation, Leo Aerospace, Maxar Technologies, Midland International Air & Space Port, Misty Harbor HOA, MLA Space, Mojave Air & Space Port, Momentus, Moon Express, National Air Traffic Controllers Association (NATCA), New Mexico Spaceport Authority, Purdue School of Aeronautics and Astronautics, Quest for Stars, Regional Airline Association (RAA), Sierra Nevada Corporation, Spaceport Strategies LLC, SpaceX, Space Angels, Space Florida, Spaceport Camden, SpinLaunch, Southwest Research Institute, TeamHealth Healthcare Staffing, Techshot, TIP Technologies, Vector Launch, Virgin Galactic, Virgin Orbit, World View, Xplore Inc., and various members of the public.

The FAA agrees with the petitioners' request for an extension of the comment period. It recognizes the content of the proposed rule is significant and complex, and that an extension would help commenters craft complete and thoughtful responses. Because the rule was posted on the FAA's website 20 days prior to its publication in the Federal Register, the FAA is extending the comment period an additional 45 days. With this extension, the comment period will now close on July 30, 2019. This will provide the public with a total of 125 days to conduct its review.

The FAA does not anticipate any further extension of the comment period for this rulemaking.

Extension of Comment Period

In accordance with § 11.47(c) of Title 14, Code of Federal Regulations, the FAA has reviewed the petitions for extension of the comment period for this notice. The petitioners have shown a substantive interest in the proposed policy and good cause for the extension of the comment period. The FAA has determined that an extension of the comment period for an additional 45 days to July 30, 2019, is consistent with the public interest, and that good cause exists for taking this action.

Accordingly, the comment period for Notice No. 19-01 is extended until July 30, 2019.

Issued under authority provided by 49 U.S.C. 106(f), 44701(a), and 44703 in Washington, DC, on May 24, 2019.
Lirio Liu,
Executive Director, Office of Rulemaking.

[FR Doc. 2019-11286 Filed 5-30-19; 8:45 am]

BILLING CODE 4910-13-P